DEPARTMENT OF COMMERCE

National Oceanic and Atmospheric Administration

RIN 0648-XG096

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Herring Advisory Panel and Committee on Wednesday, April 4, 2018 to consider actions affecting New England fisheries in the exclusive economic zone (EEZ). Recommendations from this group will be brought to the full Council for formal consideration and action, if appropriate.

DATES: This meeting will be held on Wednesday, April 4, 2018 at 9 a.m.

ADDRESSES: Meeting address: The meeting will be held at the Holiday Inn Logan Airport, 100 Boardman Street, Boston, MA 02128; telephone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Herring Advisory Panel (AP) will meet with the Herring Committee (CTE) to review and provide recommendations on a draft white paper considering the addition of river herring and shad as stocks in the Atlantic herring fishery. The AP and CTE will review the final report from the herring and mackerel fishery electronic monitoring project, as well as any associated correspondence. The group will consider whether electronic monitoring/portside sampling is an adequate substitute for at-sea monitoring coverage aboard mid-water trawl vessels, and make recommendations to the Council to consider as they relate to the Industry-Funded Monitoring Amendment. The group will also discuss how recent river herring/shad bycatch accountability measures triggered in the mackerel fishery could impact the 2018 herring fishing season. The Mid-Atlantic Fishery Management Council is potentially considering measures to address this issue in the 2019-21 specifications process. Other business may be discussed if necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: March 16, 2018.
Tracey L. Thompson,
Acting Deputy Director, Office of Sustainable Fisheries, National Marine Fisheries Service.

[FR Doc. 2018-05771 Filed 3-21-18; 8:45 am]

BILLING CODE 3510-22-P